DEPARTMENT OF THE INTERIOR

National Park Service

[N6596; NPS-WASO-NAGPRA-NPS0041309; PPWOCRADN0-PCU00RP14.R50000]

Notice of Intended Repatriation: North Carolina Office of State Archaeology, Raleigh, NC

AGENCY: National Park Service, Interior.

ACTION: Notice.

SUMMARY: In accordance with the Native American Graves Protection and Repatriation Act (NAGPRA), the North Carolina Office of State Archaeology intends to repatriate certain cultural items that meet the definition of unassociated funerary objects and that have a cultural affiliation with the Indian Tribes or Native Hawaiian organizations in this notice.

DATES: Repatriation of the cultural items in this notice may occur on or after December 18, 2025.

ADDRESSES: Send additional, written requests for repatriation of the cultural items in this notice to Emily McDowell, North Carolina Office of State Archaeology, 215 West Lane Street, Raleigh, NC 27616, email emily.mcdowell@dncr.nc.gov.

SUPPLEMENTARY INFORMATION: This notice is published as part of the National Park Service's administrative responsibilities under NAGPRA. The determinations in this notice are the sole responsibility of the North Carolina Office of State Archaeology, and additional information on the determinations in this notice, including the results of consultation, can be found in the summary or related records. The National Park Service is not responsible for the determinations in this notice.

Abstract of Information Available

A total of 88,088 cultural items have been requested for repatriation. The 88,088 unassociated funerary objects are one necklace, one batch of hemp fiber, and 88,086 beads. In 1992, artifacts from Fort Neoheroka were donated to the North Carolina Office of State Archaeology Research Center by the property owner. Fort Neoheroka, located in Greene County, North Carolina, is historically documented as the site of the final major battle of the Tuscarora War in 1713. The Tuscarora are historically and geographically documented as residing in the interior coastal plain region of North Carolina. According to Tuscarora traditional knowledge, the beads, known as Wampum, were intentionally placed with ancestors at the time of their death and are the cultural property of the Tuscarora Nation, rather than any one individual.

Determinations

The North Carolina Office of State Archaeology has determined that:

• The 88,088 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Tuscarora Nation

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 18, 2025. If competing requests for repatriation are received, the North Carolina Office of State Archaeology must determine the most appropriate requestor prior to repatriation. Requests for joint repatriation of the cultural items are considered a single request and not competing requests. The North Carolina Office of State Archaeology is responsible for sending a copy of this notice to the Indian Tribes and Native Hawaiian organizations identified in this notice and to any other consulting parties.

Authority: Native American Graves Protection and Repatriation Act, 25 U.S.C. 3004 and the implementing regulations, 43 CFR 10.9.

Dated: September 30, 2025.
Melanie O'Brien,
Manager, National NAGPRA Program.

[FR Doc. 2025-20116 Filed 11-17-25; 8:45 am]

BILLING CODE 4312-52-P